FEDERAL MARITIME COMMISSION

Notice of Agreements Filed

The Commission hereby gives notice of the filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202)-523-5793 or tradeanalysis@fmc.gov.

Agreement No.: 201436-001.

Agreement Name: MSC/ZIM Cooperative Working Agreement.

Parties: Mediterranean Shipping Company S.A.; ZIM Integrated Shipping Services Ltd.

Filing Party: Wayne Rohde, Cozen O'Connor.

Synopsis: The Amendment deletes the Bahamas, Mexico and Jamaica from the geographic scope of the Agreement.

Proposed Effective Date: 5/7/2025.

Location: https://www2.fmc.gov/FMC.Agreements.Web/Public/AgreementHistory/86581.

Agreement No.: 201436-002.

Agreement Name: MSC/ZIM Cooperative Working Agreement.

Parties: Mediterranean Shipping Company S.A.; ZIM Integrated Shipping Services Ltd.

Filing Party: Wayne Rohde, Cozen O'Connor.

Synopsis: The Amendment adds Taiwan and Indonesia to the geographic scope of the Agreement and adds a new Article 14 that reflects an interim vessel sharing/slot exchange arrangement that will temporarily supersede the existing arrangements set forth in Articles 5.1 and 5.2.

Proposed Effective Date: 5/7/2025.

Location: https://www2.fmc.gov/FMC.Agreements.Web/Public/AgreementHistory/86581.

Dated: May 9, 2025.
Alanna Beck,
Federal Register Alternate Liaison Officer.

[FR Doc. 2025-08514 Filed 5-13-25; 8:45 am]

BILLING CODE 6730-02-P